DEPARTMENT OF COMMERCE

National Institute of Standards and Technology

International Code Council: The Update Process for the International Codes

AGENCY: National Institute of Standards and Technology, Commerce.

ACTION: Notice of Final Action Hearings on U.S. Model Codes, 2006 editions.

SUMMARY: The International Code Council (ICC), under whose auspices the International Codes (“I-Codes”) are developed, maintains a process for updating these model codes based on receipt of proposals from interested individuals and organizations. The ICC's 14 separately published codes are each comprehensively updated and re-published every three years with a supplement released between each edition. The most current versions of the I-Codes are the 2003 Editions and 2004 Supplements. The 2006 Editions will be released in March, 2006.

The purpose of this notice is to invite public participation in the Final Action Hearings. At this session, public comments are reviewed and discussed and final voting is conducted to determine which proposals are adopted into the 2006 I-Codes.

The publication of this notice by the National Institute of Standards and Technology (NIST) on behalf of ICC is being undertaken as a public service; NIST does not necessarily endorse, approve, or recommend any of the codes or standards referenced in the notice.

Session Dates: The Final Action Hearings of the 2004/2005 Code Development Cycle will occur between September 28 and October 2, 2005, at the COBO Center in Detroit, Michigan.

Proposed changes approved during this cycle, in addition to changes published in the 2004 Supplement, will constitute the 2006 editions of the International Codes.

The agenda for the hearing as well as updates to the schedule are also posted on the ICC Web site at: http://www.iccsafe.org.

FOR FURTHER INFORMATION CONTACT: Mike Pfeiffer, PE, Vice President, Codes and Standards Development at ICC's Chicago District Office, 4051 West Flossmoor Road, Country Club Hills, Illinois, 60478; Telephone 888-422-7233, Extension 4338; e-mail mpfeiffer@iccsafe.org.

SUPPLEMENTARY INFORMATION:

Background

The ICC produces a family of Codes and Standards that are comprehensive, coordinated and are widely used across the country in the regulation of the built environment. Local, state and federal agencies use these codes and standards as the basis for developing regulations concerning new and existing construction.

The ICC code development process is initiated when proposals from interested persons-supported by written data, views, or arguments-are solicited, received and then published in the Proposed Changes document. This document is distributed a minimum of 30 days in advance of the Code Development Hearings and serves as the agenda for that session.

At the Code Development Hearing the ICC Code Development Committee for each code or subject area of the code considers testimony and takes action on each proposal (Approval, Disapproval, or Approval as Modified). Following the Code Development Hearing, results are published in a report entitled the Report of the Public Hearing, which identifies the disposition of each proposal and the reason for the committee's action. Any person wishing to comment on the committee's action may do so in the public comment period following the first hearing. Comments received are published and distributed in a document called the Final Action Agenda which serves as the agenda for the second hearing.

Proposals which are approved by a vote of the Governmental Members of ICC at the second hearing (Final Action Hearing) are incorporated in either the Supplement or Edition, as applicable, with the next 18-month cycle starting with the submittal deadline for proposals.

Proponents of proposals automatically receive a copy of all documents (Proposed Changes, Report of the Public Hearing and Final Action Agenda). Interested parties may also request a copy, free of charge, by downloading the “return coupon” from the ICC Web site at http://www.iccsafe.org and sending it in as directed.

The International Codes consist of the following:

International Building Code

ICC Electrical Code

International Energy Conservation Code

International Existing Building Code

International Fire Code

International Fuel Gas Code

International Mechanical Code

ICC Performance Code for Buildings and Facilities

International Plumbing Code

International Private Sewage Disposal Code

International Property Maintenance Code

International Residential Code

International Urban-Wildland Interface Code; and

International Zoning Code

Dated: August 25, 2005.
William Jeffrey,
Director.

[FR Doc. 05-17519 Filed 9-1-05; 8:45 am]

BILLING CODE 3510-13-P